DEPARTMENT OF HEALTH AND HUMAN SERVICES

Agency for Healthcare Research and Quality

Agency Information Collection Activities: Proposed Collection; Comment Request

AGENCY: Agency for Healthcare Research and Quality, HHS.

ACTION: Request for Information.

SUMMARY: AHRQ is re-issuing this Request for Information to extend the date for receipt of comments. AHRQ invites public comment on its Request for Information (RFI) to inform potential revisions to the Consumer Assessment of Healthcare Providers and Systems Health Plan Survey 5.0. The Consumer Assessment of Healthcare Providers and Systems (CAHPS®) Health Plan Survey 5.0 is one of the CAHPS family of surveys that assess patients' experiences with health care providers, in different settings, and with health plans. The CAHPS surveys cover topics that are important to patients and that they are best able to assess, such as the communication with providers and access to health care services.

This RFI requests public comment regarding (1) the relevance and validity of the questions on CAHPS Health Plan Survey 5.0 (the Survey), and (2) any user concerns about revisions to the Survey.

DATES: Responses to the RFI must be received no later than June 28, 2019.

ADDRESSES: Interested parties are to submit comments electronically to CAHPS1@westat.com with the subject line HP RFI. Non-electronic responses will also be accepted. Please mail to CAHPS; Westat; 1600 Research Blvd.; RB 1186S; Rockville, MD 20850.

FOR FURTHER INFORMATION CONTACT: Questions may be addressed to Caren Ginsberg, Director, CAHPS Division, Center for Quality Improvement and Patient Safety, caren.ginsberg@ahrq.hhs.gov, or (301) 427-1894.

SUPPLEMENTARY INFORMATION: The last update of the Survey was in May 2012. AHRQ is considering an update to the Survey to ensure that the Survey questions continue to be relevant to Survey sponsors, users, patients, consumers, and other stakeholders. AHRQ is not seeking information on Survey administration methodology, public reporting, or Survey length with this request.

AHRQ is seeking information on current uses of the Survey that reflects organization-specific perspectives, the impact of a potential Survey revision, and areas of the Survey that should and should not be modified. Respondents should refer to the questions with details on how such a Survey revision might affect the organization(s) they represent. Specific questions of interest to AHRQ include, but are not limited to, the following:

1. How and why does the respondent's organization use the Survey? For example, is it used for adults, children, or both? In what languages is it administered? What supplemental items, if any, are used (e.g., children with chronic conditions or others)?

2. What is working well/what are the strengths of the Survey?

3. What content areas might be missing from the Survey?

4. What content areas on the Survey are no longer relevant or useful and why?

5. Are there new topic areas the Survey should address?

6. Should the Survey be revised, what implications or barriers would there be for the commenter's organization to implement a new version of the Survey?

7. What information/documentation would be helpful to the respondent's organization in making a transition to a future version of the Survey?

AHRQ is interested in all of the questions listed above, but respondents are welcome to address as many or as few as they choose and to address additional areas of interest not listed. This RFI is for planning purposes only and should not be construed as a policy, solicitation for applications, or as an obligation on the part of the Government to provide support for any ideas in response to it. AHRQ will use the information submitted in response to this RFI at its discretion, and will not provide comments to any respondent's submission. However, responses to the RFI may be reflected in future solicitation(s) or policies. Respondents are advised that the Government is under no obligation to acknowledge receipt of the information received or provide feedback to respondents with respect to any information submitted. No proprietary, classified, confidential or sensitive information should be included in your response. The Government reserves the right to use any non-proprietary technical information in any resultant solicitation(s). The contents of all submissions will be made available to the public upon request. Submitted materials must be publicly available or able to be made public.

Virginia Mackay-Smith,
Associate Director.

[FR Doc. 2019-12636 Filed 6-14-19; 8:45 am]

BILLING CODE 4160-90-P